NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collection described in this notice. The public is invited to comment on the proposed information collections pursuant to the Paperwork Reduction Act of 1995.

DATES: Written comments must be submitted to OMB at the address below on or before October 22, 2010 to be assured of consideration.

ADDRESSES: Send comments to Mr. Nicholas A. Fraser, Desk Officer for NARA, Office of Management and Budget, New Executive Office Building, Washington, DC 20503; fax: 202-395-5167; or electronically mailed to Nicholas_A._Fraser@omb.eop.gov.

FOR FURTHER INFORMATION CONTACT: Requests for additional information or copies of the proposed information collection and supporting statement should be directed to Tamee Fechhelm at telephone number 301-837-1694 or fax number 301-713-7409.

SUPPLEMENTARY INFORMATION: Pursuant to the Paperwork Reduction Act of 1995 (Pub. L. 104-13), NARA invites the general public and other Federal agencies to comment on proposed information collections. NARA published a notice of proposed collection for this information collection on June 24, 2010 (75 FR 36122 and 36123). No comments were received. NARA has submitted the described information collection to OMB for approval.

In response to this notice, comments and suggestions should address one or more of the following points: (a) Whether the proposed information collection is necessary for the proper performance of the functions of NARA; (b) the accuracy of NARA's estimate of the burden of the proposed information collection; (c) ways to enhance the quality, utility, and clarity of the information to be collected; and (d) ways to minimize the burden of the collection of information on respondents, including the use of information technology; and (e) whether small businesses are affected by this collection. In this notice, NARA is soliciting comments concerning the following information collection:

Title: OGIS Request for Assistance and Consent.

OMB number: 3095-00XX.

Agency form number: NA Forms 10003 and 10004.

Type of review: Regular.

Affected public: Individuals or households, Business or other for-profit, Not-for-profit institutions, and Federal Government.

Estimated number of respondents: 600.

Estimated time per response: 1 minute.

Frequency of response: On occasion.

Estimated total annual burden hours: 10 hours.

Abstract: In order to fulfill its government-wide statutory mission, OGIS provides varying types of assistance to its customers, which requires communicating with government departments and agencies regarding the customers' FOIA/Privacy Act request/appeal. Handling requests for OGIS assistance must conform to the legal requirements of the Freedom of Information Act (FOIA) and the Privacy Act of 1974. Authority for the requirements set forth in these forms is also contained in 5 U.S.C. 552a(b). OGIS will use the information submitted in the proposed forms to provide the requested assistance. Without the information submitted in these forms, OGIS would be unable to fulfill its mission.

Dated: September 14, 2010.
Charles K. Piercy,
Acting Assistant Archivist for Information Services.

[FR Doc. 2010-23729 Filed 9-21-10; 8:45 am]

BILLING CODE 7515-01-P